GENERAL SERVICES ADMINISTRATION

[OMB Control No. 3090-0250]

Proposed Collection for Public Comments; Comment Request Entitled Zero Burden Information Collection Reports

AGENCY: Office of Acquisition Policy, GSA.

ACTION: Notice of request for public comments regarding an extension to an existing OMB clearance (2090-0250), Zero Burden Information Collection Reports.

SUMMARY: Under the provisions of the Paperwork Reduction Act of 1995 (44 U.S.C. Chapter 35), the General Services Administration (GSA) will be submitting to the Office of Management and Budget (OMB) a request to review and approve an extension of a currently approved information collection requirement concerning Zero Burden Information Collection Reports.

Public comments are particularly invited on: Whether this collection of information is necessary and whether it will have practical utility; whether our estimate of the public burden of this collection of information is accurate, and based on valid assumptions and methodology; ways to enhance the quality, utility, and clarity of the information to be collected.

DATES: May 24, 2002.

ADDRESSES: Submit comments regarding this information collection to Stephanie Morris, General Services Administration, Acquisition Policy Division, 1800 F Street, NW., Room 4035, Washington, DC 20405 or fax to (202) 501-4067. Please cite OMB Control Number 3090-0250.

FOR FURTHER INFORMATION CONTACT: Linda Nelson, Acquisition Policy Division, GAS (202) 501-1900.

SUPPLEMENTARY INFORMATION:

A. Purpose

The GSA will be requesting the Office of Management and Budget (OMB) to review and approve information collection, 3090-0250, Zero Burden Information Collection Reports.

This information requirement consists of reports that do not impose collection burdens upon the public. These collections require information which is already available to the public at large or that is routinely exchanged by firms during the normal course of business. A general control number for these collections decreases the amount of paperwork generated by the approval process. Since May 10, 1992, GSA has published two rules that fall under Information Collection 3090-0250: “Implementation of Public Law 99-506” published at 56 FR 29442, June 27, 1991, and “Industrial Funding Fee” published at 62 FR 38475, July 18, 1997.

B. Annual Reporting Burden

None.

Obtaining Copies of Proposal

Requester may obtain a copy of the proposal from the General Services Administration, Acquisition Policy Division (MVP), 1800 F Street, NW., Room 4035, Washington, DC 20405, telephone (202) 501-4744. Please cite OMB Control No. 3090-0250, Zero Burden Information Collection Reports.

Dated: March 19, 2002.
Michael W. Carleton,
Chief Information Officer (I).

[FR Doc. 02-7139 Filed 3-22-02; 8:45 am]

BILLING CODE 6820-61-M